DEPARTMENT OF ENERGY

Federal Energy Regulatory Commission

Combined Notice of Filings #1

Take notice that the Commission received the following electric corporate filings:

Docket Numbers: EC16-138-000.

Applicants: Effingham County Power, LLC, SEPG Energy Marketing Services, LLC, Washington County Power, LLC.

Description: Supplement to June 30, 2016 Application for Authorization Pursuant to Section 203 of the FPA of Effingham County Power, LLC, et al.

Filed Date: 8/19/16.

Accession Number: 20160819-5219.

Comments Due: 5 p.m. ET 8/29/16.

Docket Numbers: EC16-157-000.

Applicants: Alcoa Power Generating Inc., Cube Yadkin Generation LLC, Cube Yadkin Transmission LLC.

Description: Supplement to July 26, 2106 Joint Application for Authorization for Disposition and Consolidation of Jurisdictional Facilities and Acquisition of Existing Generation Facilities of Alcoa Power Generating Inc., et al.

Filed Date: 8/18/16.

Accession Number: 20160818-5342.

Comments Due: 5 p.m. ET 8/29/16.

Docket Numbers: EC16-169-000.

Applicants: Entergy Nuclear FitzPatrick, LLC, Exelon Generation Company, LLC.

Description: Joint Application under FPA Section 203 of Entergy Nuclear FitzPatrick, LLC and Exelon Generation Company, LLC.

Filed Date: 8/19/16.

Accession Number: 20160819-5257.

Comments Due: 5 p.m. ET 10/3/16.

Take notice that the Commission received the following electric rate filings:

Docket Numbers: ER16-2463-000.

Applicants: PJM Interconnection, L.L.C.

Description: § 205(d) Rate Filing: Service Agreement No. 4524, Queue Position AA2-100 to be effective 7/21/2016.

Filed Date: 8/22/16.

Accession Number: 20160822-5243.

Comments Due: 5 p.m. ET 9/12/16.

Docket Numbers: ER16-2464-000.

Applicants: Mississippi Power Company.

Description: § 205(d) Rate Filing: Shared Service Amendment to MRA Cost Based Tariff to be effective 10/22/2016.

Filed Date: 8/23/16.

Accession Number: 20160823-5044.

Comments Due: 5 p.m. ET 9/13/16.

Docket Numbers: ER16-2465-000.

Applicants: PJM Interconnection, L.L.C.

Description: § 205(d) Rate Filing: First Revised Service Agreement No. 2135, Queue Position AA2-079 to be effective 7/27/2016.

Filed Date: 8/23/16.

Accession Number: 20160823-5054.

Comments Due: 5 p.m. ET 9/13/16.

Docket Numbers: ER16-2466-000.

Applicants: PJM Interconnection, L.L.C.

Description: § 205(d) Rate Filing: Amendment to First Revised ISA No. 4355, Queue No. Z2-011 to be effective 12/21/2015.

Filed Date: 8/23/16.

Accession Number: 20160823-5057.

Comments Due: 5 p.m. ET 9/13/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 23, 2016.
Kimberly D. Bose,
Secretary.

[FR Doc. 2016-20622 Filed 8-26-16; 8:45 am]

BILLING CODE 6717-01-P